DEPARTMENT OF COMMERCE

Technology Administration

Proposed Information Collection; Comment Request; Global Positioning System (GPS) Industry Survey

ACTION: Notice.

SUMMARY: The Department of Commerce (DOC), as part of its continuing effort to reduce paperwork and respondent burden, invites the general public and other Federal agencies to comment on the proposed information collection, as required by the Paperwork Reduction Act of 1995, Public Law 104-13 (44 U.S.C. 3506(c)(2)(A)).

DATES: Written comments must be submitted on or before October 18, 2004.

ADDRESSES: Direct all written comments to Diana Hynek, Departmental Forms Clearance Officer, Department of Commerce, Room 6625, 14th and Constitution Avenue, NW., Washington, DC 20230 (or via the Internet at dHynek@doc.gov).

FOR FURTHER INFORMATION CONTACT: Requests for additional information should be directed to the attention of Jason Kim, Senior Policy Analyst, Office of Space Commercialization, Technology Administration, Department of Commerce, Room 4843, 14th and Constitution Avenue, NW., Washington, DC 20230 or via e-mail to jason.kim@technology.gov.

SUPPLEMENTARY INFORMATION:

I. Abstract

The Office of Space Commercialization will collect financial information from all known producers of Global Positioning System (GPS) equipment. The information will be used to develop a public report describing the size and characteristics of the GPS manufacturing industry, and its economic impact on the United States. Dissemination of this information will provide a service to businesses and investors involved in the GPS industry. The information will also be used within the U.S. Government to inform ongoing policy and budget decisions related to the GPS program.

II. Method of Collection

This will be a one-time collection of information involving a paper questionnaire mailed to all known GPS manufacturers. The survey is completely voluntary and designed to be short to minimize public burden. Follow-up phone calls and letters will be used to encourage companies to participate in the survey. All respondents will receive a copy of the final report upon its release.

III. Data

OMB Number: None.

Form Numbers: None.

Type of Review: Regular submission.

Affected Public: Business or other for-profit organizations, and the Federal Government.

Estimated Number of Respondents: 200.

Estimated Time Per Response: 1.25 hours.

Estimated Total Annual Respondent Burden Hours: 250.

Estimated Total Annual Respondent Cost Burden: $0.

IV. Request for Comments

Comments are invited on: (a) Whether the proposed collection of information is necessary for the proper performance of the functions of the agency, including whether the information will have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they also will become a matter of public record.

Dated: August 11, 2004.
Gwellnar Banks,
Management Analyst, Office of the Chief Information Officer.

[FR Doc. 04-18729 Filed 8-16-04; 8:45 am]

BILLING CODE 3510-18-P